DEPARTMENT OF TRANSPORTATION

Office of the Secretary

Notice of Applications for Certificates of Public Convenience and Necessity and Foreign Air Carrier Permits Filed Under Subpart B (Formerly Subpart Q) During the Week Ending July 4, 2003

The following Applications for Certificates of Public Convenience and Necessity and Foreign Air Carrier Permits were filed under subpart B (formerly subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-4755.

Date Filed: July 1, 2003.

Due Date for Answers, Conforming Applications, or Motion to Modify Scope: July 22, 2003.

Description: Contingent Application of Delta Air Lines, Inc., pursuant to 49 U.S.C. 41102 and 41108 and Subpart B, requesting renewal of its certificate of public convenience and necessity for Route 756, which authorizes Delta to engage in foreign air transportation of persons, property, and mail between a point or points in the United States, the intermediate point Paris, France, and Johannesburg, South Africa.

Andrea M. Jenkins,
Program Manager, Docket Operations, Federal Register Liaison.

[FR Doc. 03-18916 Filed 7-24-03; 8:45 am]

BILLING CODE 4910-62-P